DEPARTMENT OF DEFENSE

Department of the Air Force

[USAF-2007-0018]

Privacy Act of 1974; System of Records

AGENCY: Department of the Air Force.

ACTION: Notice to add a system of records.

SUMMARY: The Department of the Air Force proposes to add a system of records to its inventory of record systems subject to the Privacy Act of 1974 (5 U.S.C. 552a), as amended.

DATES: The proposed action will be effective on May 7, 2007 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on March 6, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: April 2, 2007.
C.R. Choate,
Alternate OSD Federal Register Liaison Officer, Department of Defense.

F011 AF A3 B DoD

System name:

DoD Foreign Clearance Program Records.

System location:

Andrew T. McNamara Headquarters Complex, Defense Technical Information Center (DTIC), 8725 John J. Kingman Road, Fort Belvoir, VA 22060-6218.

Categories of individuals covered by the system:

Military, Department of Defense (DoD) civilians, and non-DoD personnel traveling under DoD sponsorship (e.g., contractors, foreign nationals and dependents) and includes temporary travelers worldwide as defined by the DoD Foreign Clearance Guide Program.

Categories of records in the system:

Aircraft diplomatic clearance and personnel travel requests, which may contain the individual's name; rank/pay grade; military branch or department; passport number; office address and telephone number; official and personal email address; detailed information on sites to be visited; visitation dates; and purpose of visit.

Authority for maintenance of the system:

10 U.S.C. 3013, Secretary of the Army; 10 U.S.C. 5013, Secretary of the Navy; 10 U.S.C. 8013, Secretary of the Air Force; Public Law 99-399, Omnibus Diplomatic Security and Antiterrorism Act of 1986; 22 U.S.C. 4801, 4802, and 4805, Foreign Relations and Intercourse; DODD 4500.54, Official Temporary Duty Travel Abroad; DOD 4500.54-G, Department of Defense Foreign Clearance Guide; and E.O. 9397 (SSN).

Purpose(s):

To provide the Department of Defense with a web-based automated system to request, clear, and audit aircraft diplomatic and personnel travel clearances worldwide; to provide individual travelers with intelligence and travel warnings; and to provide the Defense Attaché and other DoD authorized officials with information necessary to verify aircraft diplomatic clearances and official travel by DoD personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of State Regional Security Officer, U.S. Embassy officials, and foreign law enforcement and security agencies for the purpose of coordinating mission and security support for DoD travelers.

The DoD ‘Blanket Routine Uses’ set forth at the beginning of the Air Force's compilation of systems of records notices also apply to this system.

Policies and practices for storing, retiring, accessing, retaining, and disposing of records.

Storage:

Electronic storage media.

Retrievability:

Individual's name, Social Security Number (SSN), passport number, dates of travel or mission, and aircraft mission.

Safeguards:

Electronic records are located in the Aircraft and Personnel Automated Clearance System (APACS) computer database with built in safeguards. Computerized records are maintained in controlled areas accessible only to authorized personnel with an official need-to-know access. In addition, automated files are accessed by individual account with appropriate permissions, are password protected, and are in compliance with the applicable laws and regulations.

Retention and disposal:

Records are destroyed 1 year after mission/travel is completed.

System manager(s) and address:

Chief, International Sovereignty Policy, International Treaties and Agreements Division, Headquarters, United States Air Force, 1480 Air Force Pentagon, Washington, DC 20330-1480.

Notification procedures:

Individuals seeking to determine whether information about themselves is contained in this system of records should address written inquiries to HQ USAF/A3SPI, 1480 Air Force Pentagon, Washington, DC 20330-1480.

Requests should contain individual's full name, Social Security Number (SSN), and/or passport number.

Record access procedures:

Individuals seeking access to information about themselves contained in this system of records should address written inquiries to HQ USAF/A3SPI, 1480 Air Force Pentagon, Washington, DC 20330-1480.

Requests should contain individual's full name, Social Security Number, and/or passport number.

Contesting record procedures:

The Air Force rules for accessing records, and for contesting contents and appealing initial agency determinations are published in Air Force Instruction 37-132; 32 CFR part 806b; or may be obtained from the system manager.

Record source categories:

From individuals.

Exemptions claimed for the system:

None.

[FR Doc. E7-6457 Filed 4-5-07; 8:45 am]

BILLING CODE 5001-06-P